DEPARTMENT OF COMMERCE

National Oceanic and Atmospheric Administration

[I.D. 070803D]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Gulf Council) and South Atlantic Fishery Management Council (South Atlantic Council) in cooperation with the Florida Marine Research Institute (FMRI) of the Florida Fish and Wildlife Conservation Commission (FFWCC) and the Southeast Fisheries Science Center of the National Marine Fisheries Service (NOAA Fisheries) will convene an Assessment Review Workshop as part of the 2003 Southeast Data Assessment and Review (SEDAR) process. The Gulf Council's Standing Scientific and Statistical Committee (SSC) will also be convened as a component of the Assessment Review Workshop.

DATES: The workshop will be held beginning at 1:30 p.m. on Monday July 28, 2003 through noon on Thursday, July 31, 2003.

ADDRESSES: The meeting will be held at the Hilton Tampa Airport Westshore, 2225 Lois Avenue, Tampa, FL; telephone: 813-877-6688.

Council address: Gulf of Mexico Fishery Management Council, 3018 U.S. Highway 301 North, Suite 1000, Tampa, FL 33619.

FOR FURTHER INFORMATION CONTACT: Mr. Phil Steele, NMFS Southeast Regional Office, 9721 North Executive Center Drive, St. Petersburg, FL 33702; telephone: 727-570-5305.

SUPPLEMENTARY INFORMATION: The purpose of the Assessment Review Workshop will be to evaluate the results of a SEDAR Yellowtail Snapper Stock Assessment Workshop that was held June 9-13, 2003. Yellowtail snapper off the U.S. mainland straddle the jurisdictional boundaries of the Gulf Council, South Atlantic Council and FFWCC, and are considered to be a single stock. Yellowtail snapper in the Caribbean appear to be a different population, based on preliminary genetic analyses, and are not included in this assessment.

The Assessment Review Workshop is the third of three meetings held as part of the SEDAR process. A Data Review Workshop was held March 3-7, 2003, to review available data on yellowtail snapper. A Stock Assessment Workshop was held June 9-13, 2003, to analyze the data and prepare a preliminary stock assessment for review by the Assessment Review Workshop.

The Assessment Review Workshop will consist of representatives of the Gulf Council's and South Atlantic Council's SSCs, staff from the Gulf Council, South Atlantic Council, FFWCC and NMFS, representatives of recreational and commercial fishing communities, representatives of environmental organizations, outside stock assessment biologists who were not involved in the Stock Assessment Workshop, and scientists from the University of Miami's Center of Independent Experts.

The preliminary yellowtail snapper stock assessment will be available from the Gulf Council's website (http://www.gulfcouncil.org) prior to the meeting, and a final stock assessment will be prepared following the meeting. The Assessment Review Workshop reports and recommendations will be presented to the Gulf Council, South Atlantic Council and FFWCC, which may set year a 2004 total allowable catch (TAC) as well as other management measures for the yellowtail snapper stock within the respective jurisdictions of each management agency.

A copy of the agenda for the SSC portion of the meeting can be obtained by calling 813-228-2815.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is open to the public and is physically accessible to people with disabilities. Requests for sign language interpretation or other auxiliary aids should be directed to the Council office by July 11, 2003.

Dated: July 8, 2003.
Richard W. Surdi,
Acting Director, Office of Sustainable Fisheries, National Marine Fisheries Service.

[FR Doc. 03-17752 Filed 7-11-03; 8:45 am]

BILLING CODE 3510-22-S